DEPARTMENT OF AGRICULTURE

7 CFR 3200

RIN 0599-AA10

Office of Procurement and Property Management (OPPM); Uniform Procedures for the Acquisition and Transfer of Excess Personal Property

AGENCY: Office of Procurement and Property Management.

ACTION: Direct final rule.

SUMMARY: The Office of Procurement and Property Management of the Department of Agriculture (USDA) proposes to amend its procedures for the acquisition and transfer of excess personal property to 1994 Institutions (as defined in section 532 of the Equity in Education Land Grant Status Act of 1994 (Pub. L. 103-382; 7 U.S.C. 301 note)); any Hispanic-Serving Institution (as defined in section 316(b) of the Higher Education Act of 1965 (20 U.S.C. 1059c(b)); and any college/university eligible to receive funds under the Act of August 30, 1890 (7 U.S.C. 321 et seq.), including Tuskegee University, in support of research, educational, technical, and scientific activities or for related programs. This amendment would clarify administrative rules regarding equipment transfer and reduce the administrative burden placed on the Institutions.

DATES: This rule is effective March 1, 2004 without further action, unless we receive written adverse comments or written notice of intent to submit adverse comments on or before January 29, 2004. If we receive adverse comments, the Office of Procurement and Property Management will publish a timely withdrawal of the rule in the Federal Register.

ADDRESSES: Comments should be sent to USDA, OPPM, PMD, 1400 Independence Ave., SW., Mail Stop 9304, Washington, DC 20250.

FOR FURTHER INFORMATION CONTACT: Kathy Fay on 202-720-9779.

SUPPLEMENTARY INFORMATION:

I. Background

II. Procedural Requirements

A. Executive Order Number 12866.

B. Regulatory Flexibility Act.

C. Paperwork Reduction Act.

III. Electronic Access Addresses

I. Background

This direct final rule amends the final rule which was published in the Federal Register at 63 FR 57233-57236, Oct. 27, 1998.

II. Procedural Requirements

A. Executive Order Number 12866

This proposed rule was reviewed under EO 12866, and it has been determined that it is not a significant regulatory action because it will not have an annual effect on the economy of $100 million or more or adversely and materially affect a sector of the economy, productivity, competition, jobs, the environment, public health or safety, or State, local, or tribal governments or communities. This proposed rule will not create any serious inconsistencies or otherwise interfere with any actions taken or planned by another agency. It will not materially alter the budgetary impact of entitlements, grants, user fees, or loan programs, or the rights and obligations of recipients thereof.

B. Regulatory Flexibility Act

USDA certifies that this proposed rule will not have a significant impact on a substantial number of small entities as defined in the Regulatory Flexibility Act, 5 U.S.C. 601, et seq., for the reason that this regulation imposes no new requirements on small entities.

C. Paperwork Reduction

The forms necessary to implement these procedures have been cleared by the Office of Management and Budget (OMB) in accordance with the Paperwork Reduction Act, 44 U.S.C. 2500, et seq.

III. Electronic Access Addresses

You may send electronic mail (E-mail) to kathy.fay@usda.gov or contact us via fax at (202) 720-3339.

CHAPTER 32—OFFICE OF PROCUREMENT AND PROPERTY MANAGEMENT

PART 3200—DEPARTMENT OF AGRICULTURE GUIDELINES FOR THE ACQUISITION AND TRANSFER OF EXCESS PERSONAL PROPERTY

1. The authority citation for part 3200 continues to read as follows:

Authority: 5 U.S.C. 301; 7 U.S.C. 2206a.

2. Amend § 3200.4 by revising paragraphs (a), (d) and (e)(2) to read as follows:

§ 3200.4 Procedures.

(a) To receive information concerning the availability of Federal excess personal property, an eligible institution's property management officer may contact their regional GSA, Area Utilization Officer. For information on USDA excess personal property, visit the USDA Web site at http://www.nfc.usda.gov/propexcs. USDA excess property will first be screened by USDA agencies through the Departmental Excess Personal Property Coordinator (DEPPC) using the Departmental Property Management Information System.

* * * * *

(d) Eligible institutions may submit property requests by mail or fax on a Standard Form 122, “Transfer Order Excess Personal Property”.

(e)(1) * * *

(2) This statement needs to be added following the property description:

“The property requested hereon is certified to be used in support of research, educational, technical, and scientific activities or for related programs. This transfer is requested pursuant to the provisions of Section 923 Pub. L. 104-127 (7 U.S.C. 2206a). Also, in accordance with these provisions USDA authorizes transfer of title of this property to the college/university/institution.”

* * * * *

3. Amend § 3200.6 by revising paragraph (a), redesignating paragraphs (b) and (c) as (c) and (d), and adding a new paragraph (b) to read as follows:

§ 3200.6 Restrictions.

(a) Property in the following Federal Supply Groups are prohibited from transfer.

Ineligible Federal Supply Code Groups
FSC Group | Name
10 | Weapons.
11 | Nuclear ordinance.
13 | Ammunition and explosives.
14 | Guided missiles.
18 | Space vehicles.

(b) The property in the FSC's listed below are discouraged from transfer and not approved on a routine basis. However, Institutions may request items in these FSC groups, but all requests will be referred to the Director, Office of Procurement and Property Management for consideration and approval:

FSC Group | Name
15 | Aircraft and airframe structural components.
16 | Aircraft components and accessories.
17 | Aircraft launching, landing and ground handling equipment.
20 | Ship and marine equipment.

* * * * *

4. Revise § 3200.10 to read as follows:

§ 3200.10 Disposal.

Once the requirements in § 3200.9 are met for retention and use of property by the Institution and title is transferred, Federal excess personal property (FEPP) no longer needed by an Institution will be disposed of in accordance with the Institution's disposal practices. Regardless of ownership, FEPP must never be disposed of in any manner which is detrimental or dangerous to public health or safety. Also, any costs incurred during the disposal process are the responsibility of the Institution.

Done at Washington, DC, this 22nd day of December, 2003.
W. R. Ashworth,
Director, Office of Procurement and Property Management.

[FR Doc. 03-32013 Filed 12-29-03; 8:45 am]

BILLING CODE 3410-TX-P